DEPARTMENT OF THE INTERIOR

Bureau of Land Management

[NV-033-7122-F629-EA; Closure Notice No. NV-030-01-003]

Temporary Closure of Public Lands: Douglas County, NV

AGENCY: Bureau of Land Management, Interior.

ACTION: Temporary closure of approximately 640 acres of public lands in Douglas County during the conduct of an Air Soft military reenactment and encampment authorized under Special Recreation Use Permit Number NV-030-01036.

SUMMARY: The Carson City Field Office Manager announces the temporary closure of selected public lands under his administration. This action is being taken to provide for public safety during this reenactment and to provide an uninterrupted atmosphere during the conduct of the event. The permittee is required to clearly mark and monitor the area during the closure period. Only registered event participants and authorized officials may occupy the event area. The event area will be returned to a natural condition following the event. A map of the closure area may be obtained at the contact address.

EFFECTIVE DATES: August 18-19, 2001.

FOR FURTHER INFORMATION CONTACT: Terry Knight, Outdoor Recreation Planner, Carson City Field Office, Bureau of Land Management, 5665 Morgan Mill Road, Carson City, Nevada 89701, Telephone: (702) 885-6173.

SUPPLEMENTARY INFORMATION: This closure applies to all the public, on foot or in vehicles. The public lands affected by this closure are described as follows:

Mt. Diablo Meridian

T. 13 N., R. 23 E.

Section 5, S½

Section 8, N½

Aggregating approximately 640 acres.

The above restrictions do not apply to emergency or law enforcement personnel or event officials. The authority for this closure is 43 CFR 8364.1. Persons who violate this closure order are subject to arrest and, upon conviction, may be fined not more than $1,000 and/or imprisoned for not more than 12 months.

Dated: July 27, 2001.
Richard Conrad,
Assistant Manager, Nonrenewable Resources, Carson City Field Office.

[FR Doc. 01-20173 Filed 8-10-01; 8:45 am]

BILLING CODE 4310-HC-P